FARM CREDIT ADMINISTRATION

RIN 3052-AC13

Loan Policies and Operations; Loan Syndication Transactions

AGENCY: Farm Credit Administration (FCA).

ACTION: Notice; reopening of comment period.

SUMMARY: We are reopening the comment period on our notice concerning loan syndication transactions by Farm Credit System (System) institutions so all interested parties have more time to respond to our questions.

DATES: Please send your comments to the FCA by April 21, 2003.

ADDRESSES: We encourage you to send comments by electronic mail to reg-comm@fca.gov or through the Pending Regulations section of FCA's Web site, http://www.fca.gov. You may also send comments to Thomas G. McKenzie, Director, Regulation and Policy Division, Office of Policy and Analysis, Farm Credit Administration, 1501 Farm Credit Drive, McLean, Virginia 22102-5090 or by facsimile to (703) 734-5784. You may review copies of all comments we receive at our office in McLean, Virginia.

FOR FURTHER INFORMATION CONTACT: Dennis K. Carpenter, Senior Policy Analyst, Office of Policy and Analysis, Farm Credit Administration, McLean, VA 22102-5090, (703) 883-4498, TTY (703) 883-4434, or Richard A. Katz, Senior Attorney, Office of General Counsel, Farm Credit Administration, McLean, VA 22102-5090, (703) 883-4020, TTY (703) 883-2020.

SUPPLEMENTARY INFORMATION: On January 17, 2003, we published a notice in the Federal Register seeking public comment on the treatment of loan syndication transactions by System banks and associations. The comment period expired on February 18, 2003. See 68 FR 2540, January 17, 2003. The Farm Credit Council requested that the FCA provide interested parties an additional 60 days to comment on this issue. In response to this request, we are reopening the comment period until April 21, 2003, so all interested parties have more time to respond to our questions. The FCA supports public involvement and participation in its regulatory and policy process and invites all interested parties to review and provide comments on our notice.

Dated: February 20, 2003.
Jeanette C. Brinkley,
Secretary, Farm Credit Administration Board.

[FR Doc. 03-4412 Filed 2-24-03; 8:45 am]

BILLING CODE 6705-01-P